DEPARTMENT OF HEALTH AND HUMAN SERVICES

National Institutes of Health

Government Owned Inventions Available for License: Gait Assistance Systems and Methods of Control Thereof; Correction

AGENCY: National Institutes of Health, HHS.

ACTION: Notice; correction.

SUMMARY: The Clinical Center (CC), an institute/center of the National Institutes of Health (NIH), Department of Health and Human Services (HHS), published a Notice in the Federal Register on February 13, 2026. That notice requires a correction in the SUPPLEMENTARY INFORMATION section.

FOR FURTHER INFORMATION CONTACT: Inquiries related to this license opportunity should be directed to: Tedd Fenn, J.D., M.S., Technology Transfer Manager, NCI, Technology Transfer Center, Email: Edward.Fenn@nih.gov or Phone: 240-276-6833.

SUPPLEMENTARY INFORMATION:

Correction

In the Federal Register of February 13, 2026, in FR Doc. 2026-02906, on page 6865, as found within the SUPPLEMENTARY INFORMATION section. Currently reads:

NIH Reference Number: E-121-2013.

and is corrected to read:

NIH Reference Number: E-241-2023.

Alycia Booth,
NIH Federal Register Certifying Official, National Institutes of Health.

[FR Doc. 2026-03406 Filed 2-19-26; 8:45 am]

BILLING CODE 4140-01-P